DEPARTMENT OF THE INTERIOR

Fish and Wildlife Service

[FWS-R4-R-2008-N0301; 40135-3210-0000-P3]

Fayetteville/Greenville Expansion Project, Texas Gas Transmission, LLC, Right-of-Way Permit Application To Cross Hillside National Wildlife Refuge, Holmes County, MS: Withdrawal

AGENCY: Fish and Wildlife Service, Interior.

ACTION: Notice of receipt of right-of-way permit application; withdrawal.

SUMMARY: We, the Fish and Wildlife Service, published a notice requesting public comments on a right-of-way (ROW) permit application we received from Texas Gas Transmission, LLC (Texas Gas), to install a natural gas pipeline under lands within Hillside National Wildlife Refuge (NWR) in Holmes County, MS. The company chose an alternate route that bypasses Hillside NWR and no longer seeks a ROW permit from us, and has withdrawn its application. Therefore, we are not seeking comments on the application.

FOR FURTHER INFORMATION CONTACT: Ken Clough, Fish and Wildlife Service, 6578 Dogwood View Parkway, Jackson, MS 39213; by facsimile to (601) 965-4010; or by e-mail to ken_clough@fws.gov.

SUPPLEMENTARY INFORMATION: On November 3, 2008, we published a Federal Register notice (73 FR 65391) announcing the availability of an application for a ROW permit by Texas Gas to install a natural gas pipeline under lands within Hillside NWR. The application was made available for a 30-day review and comment period. Because Texas Gas has abandoned the route that would have crossed the refuge in favor of an alternate route which bypasses the refuge, the review and comment period has been cancelled.

Authority: We publish this notice under 30 U.S.C. 185 (k).

Dated: November 10, 2008.
Cynthia K. Dohner,
Acting Regional Director.

[FR Doc. E8-27449 Filed 11-18-08; 8:45 am]

BILLING CODE 4310-55-P